NATIONAL AERONAUTICS AND SPACE ADMINISTRATION

[Notice: 24-078]

National Space-Based Positioning, Navigation, and Timing Advisory Board

AGENCY: National Aeronautics and Space Administration.

ACTION: Notice of meeting.

SUMMARY: In accordance with the Federal Advisory Committee Act, the National Aeronautics and Space Administration (NASA) announces a meeting of the National Space-Based Positioning, Navigation and Timing (PNT) Advisory Board.

DATES: Wednesday, December 4, 2024, 8:30 a.m.-6 p.m. and Thursday, December 5, 2024, 8:30 a.m.-1 p.m. All times are Pacific time.

ADDRESSES: Sonesta Redondo Beach & Marina; 300 N Harbor Dr, Redondo Beach, CA 90277.

FOR FURTHER INFORMATION CONTACT: Mr. James Joseph Miller, Designated Federal Officer, National Space-Based PNT Advisory Board, NASA Headquarters, Washington, DC 20546, via email at jj.miller@nasa.gov or (202) 262-0929.

SUPPLEMENTARY INFORMATION: This meeting will be open to the public up to the capacity of the meeting room. In-person attendees will be requested to sign a register prior to entrance to the proceedings. Webcast details to watch the meeting remotely will be available on the National Space-Based PNT Advisory Board website (www.gps.gov/governance/advisory/).

The agenda for the meeting includes the following topics:

—Assessment of International PNT Capabilities: Governance, Costs & Services

—Updates from Global Navigation Satellite System (GNSS) providers

—Protect, Toughen, Augment GNSS: Enabling Resilience with Multi-GNSS

—Update from the International Committee on GNSS (ICG)

—Updates from International Members & Representatives

—Deliberations and Discussion on Next Steps

—Other PNT Advisory Board business

It is imperative that the meeting be held on these days to accommodate the scheduling priorities of the key participants.

For more information, please visit www.gps.gov/governance/advisory/.

Jamie M. Krauk,
Advisory Committee Management Officer, National Aeronautics and Space Administration.

[FR Doc. 2024-26514 Filed 11-13-24; 8:45 am]

BILLING CODE 7510-13-P